DEPARTMENT OF DEFENSE

Department of the Army, Corps of Engineers

Notice for the Great Lakes and Mississippi River Interbasin Study (GLMRIS)

AGENCY: Department of the Army, U.S. Army Corps of Engineers, DOD.

ACTION: Notice.

SUMMARY: The U.S. Army Corps of Engineers (USACE), Chicago District has posted on http://glmris.anl.gov the Great Lakes and Mississippi River Interbasin Study (GLMRIS) Report. The GLMRIS Report presents a range of options and technologies that could be applied to prevent aquatic nuisance species (ANS) transfer between the Great Lakes and Mississippi River basins through aquatic connections. Through a structured study process, USACE identified thirteen ANS of Concern established in one basin that posed a high or medium risk of adverse impacts by transfer and establishment in the opposite basin. USACE analyzed and evaluated available controls to address these ANS, and formulated alternatives specifically for the Chicago Area Waterway System (CAWS) with the goal of preventing ANS transfer between the two basins.

USACE conducted GLMRIS in consultation with other federal agencies, Native American tribes, state agencies, local governments and non-governmental organizations. For additional information regarding GLMRIS, please refer to the project Web site http://glmris.anl.gov.

This notice announces a comment period during which USACE is seeking public comment on the alternatives presented in the report. This notice also announces the dates and times of public meetings hosted by USACE for the purpose of providing the public an opportunity to comment on alternatives and ask questions regarding the GLMRIS Report.

DATES: USACE announces a public comment period beginning Monday, January 6, 2014, through Monday, March 3, 2014. Please refer to the “GLMRIS Report” section below for instructions on comment submittal.

USACE will be hosting seven (7) public meetings to present information on the GLMRIS Report and seek comment on alternatives presented in the document. These meetings are open to the public.

FOR FURTHER INFORMATION CONTACT: For further information and/or questions about GLMRIS, please contact USACE, Chicago District, Project Manager, Mr. David Wethington, by mail: USACE, Chicago District, 231 S. LaSalle, Suite 1500, Chicago, IL 60604, by phone: 312-846-5522 or by email: david.m.wethington@usace.army.mil.

For media inquiries, please contact USACE, Chicago District, Public Affairs Officer, Ms. Lynne Whelan, by mail: USACE, Chicago District, 231 S. LaSalle, Suite 1500, Chicago, IL 60604, by phone: 312-846-5330 or by email: lynne.e.whelan@usace.army.mil.

SUPPLEMENTARY INFORMATION: 1. Background: USACE conducted GLMRIS in consultation with other federal agencies, Native American tribes, state agencies, local governments and non-governmental organizations. The GLMRIS authority directed USACE to identify the range of options and technologies available to prevent the spread of aquatic nuisance species (ANS) between the Great Lakes and Mississippi River Basins through the Chicago Sanitary and Ship Canal and other aquatic pathways. In GLMRIS, USACE has identified thirteen ANS of Concern established in one basin with the risk for transfer to the other, analyzed and evaluated available ANS controls, and formulated alternatives specifically for the Chicago Area Waterway System (CAWS) with the goal of preventing ANS transfer between the two basins.

2. The GLMRIS Report: The GLMRIS Report identifies eight potential alternatives—from continuing current efforts to complete separation of the watersheds, and evaluates the potential of these alternatives to control the inter-basin spread of thirteen ANS, which include fish (such as Asian carp), algae, crustaceans, plants and viruses. The report also identifies potential significant adverse impacts that alternatives may have on existing uses and users of the waterways, such as flood risk management, navigation, and water quality, and identifies mitigation measures that could be implemented to minimize these impacts.

3. The GLMRIS Report Comment Period: The comment period runs from January 06, 2014 through March 03, 2014. Comments may be submitted in the following ways:

• GLMRIS project Web site: Use the web form found at http://glmris.anl.gov through March 03, 2014;

• Mail: Send written information to `U. S. Army Corps of Engineers, Chicago District, GLMRIS ANS Control Comments, 231 S. LaSalle, Suite 1500, Chicago, IL 60604'. Comments must be postmarked by March 03, 2014;

• Hand Delivery: Comments may be hand delivered to the USACE, Chicago District office located at 231 S. LaSalle St., Suite 1500, Chicago, IL 60604 between 8:00 a.m. and 4:30 p.m. Comments must be received by March 03, 2014; and

• At Public Meetings: All meetings are from 4 p.m. to 7 p.m. local time at the following locations:

1. Thursday, January 9, 2014: Gleacher Center, University of Chicago Booth School of Business, 450 North Cityfront Plaza Drive, Chicago, IL 60611.

2. Tuesday, January 13, 2014: Milwaukee Area Technical College, T Building Auditorium, 700 West State Street, Milwaukee, WI 53233.

3. Thursday, January 16, 2014: Cleveland Public Library, 325 Superior Ave. NE., Cleveland, OH 44114.

4. Tuesday, January 21, 2014: University of Michigan League, 911 N University Ave., Ann Arbor, MI 48109.

5. Thursday, January 2014: The Hagerty Conference Center, Northwestern Michigan College—Great Lakes Campus, 715 E. Front Street, Traverse City, MI 49686.

6. Monday, January 27, 2014: Bloomington Education and Visitor Center, 3815 American Blvd. East, Bloomington, MN 55425.

7. Thursday, January 30, 2014: National Great Rivers Museum, #2 Locks and Dam Way, Alton, IL 62002.

Please see the GLMRIS project Web site at http://glmris.anl.gov if you wish to register to make an oral comment at one of these meetings, and for more information regarding the meeting including a meeting agenda. Those pre-registering to make oral comments through the project Web site may be given a preference over those that register to make oral comments at the meeting. The on-line pre-registration for each individual meeting will close at approximately noon, central time, on that meeting date. Each individual wishing to make oral comments shall be given three (3) minutes, and a stenographer will document oral comments. If you require assistance under the Americans with Disabilities Act, please contact Ms. Lynne Whelan via email at lynne.e.whelan@usace.army.mil or phone at (312) 846-5330 at least seven (7) working days prior to the meeting to request arrangements.

Comments received during the comment period will be posted on the GLMRIS project Web site. You may indicate that you do not wish to have your name or other personal information made available on the Web site. However, USACE cannot guarantee that information withheld from the Web site will be maintained as confidential. Requests for disclosure of collected information will be handled through the Freedom of Information Act. Comments and information, including the identity of the submitter, may be disclosed, reproduced, and distributed. Submissions should not include any information that the submitter seeks to preserve as confidential.

4. Authority: This action is being undertaken pursuant to the Water Resources and Development Act of 2007, Section 3061, Pub. L. 110-114, and Section 1538 of Public Law 112-141 of the Moving Ahead for Progress in the 21st Century Act.

Dated: December 27, 2013.
Susanne J. Davis,
Chief, Planning Branch, Chicago District, Corps of Engineers.

[FR Doc. 2013-31496 Filed 1-3-14; 8:45 am]

BILLING CODE 3720-58-P